DEPARTMENT OF DEFENSE

Department of the Navy

Notice of Availability of Government-Owned Inventions; Available for Licensing

AGENCY: Department of the Navy, DoD.

ACTION: Notice.

SUMMARY: The inventions listed below are assigned to the U.S. Government as represented by the Secretary of the Navy and are available for licensing by the Department of the Navy.

U.S. Patent No. 6,883,453: UNMANNED WATERCRAFT RETRIEVAL SYSTEM.//U.S. Patent No. 6,889,624: GRAPPLE ANCHOR DEVICE FOR UNDERWATER TOWING OF WATERCRAFT.//U.S Patent No. 6,895,371: GEOMETRICAL MODELING OF STRUCTURAL PRODUCTS.//U.S. Patent No. 6,898,584: MONITORING OF AIRCRAFT USAGE.//U.S Patent No. 6,921,898: BI-DIRECTIONAL REFLECTANCE DISTRIBUTION FUNCTION DETERMINATION BY LARGE SCALE FIELD MEASUREMENT.//U.S Patent No. 6,926,567: DIRECTIONAL STEERING CONTROLLED JET PROPULSION.//U.S. Patent No. 6,930,311: LIGHTWEIGHT NEUTRON REMMETER.//U.S. Patent No. 6,932,013: MANEUVERING OF SUBMERGED WATERJET PROPELLED SEA CRAFT.//U.S. Patent No. 6,932,661: STEERING AND DIRECTIONAL REVERSING CONTROL FOR WATERJET PROPULSION.//U.S. Patent No. 6,953,003: WATERCRAFT LANDING CRADLE.//U.S. Patent No. 6,960,865: POLYURETHANE ELECTROSTRICTION.//U.S. Patent No. 6,961,597: STRIPS FOR IMPARTING LOW NONLINEARITY TO HIGH TEMPERATURE SUPERCONDUCTOR MICROWAVE FILTERS.//U.S. Patent No. 6,964,738: BIOREACTOR PROCESSING OF WASTEWATER.//U.S Patent No. 6,965,505: SHIP DEGAUSSING SYSTEM AND ALGORITHM.//U.S Patent No. 6,968,802: BUOYANT RETRIEVAL OF UNMANNED SEAWATER VEHICLES.//U.S. Patent No. 6,976,599: MULTI-RAIL DUAL HOISTING CRANE.//U.S. Patent No. 6,981,400: SLIP METER FOR DETERMINATION OF SURFACE SLIP RESISTANCE.//U.S. Patent No. 6,981,673: WEAR RESISTING SLEEVE SYSTEM FOR AIRCRAFT LANDING ARRESTING CABLES.//U.S. Patent No. 6,981,598: TURN-TABLE DUAL HOISTING CRANE.//U.S. Patent No. 6,982,502: HYBRID ELECTRIC LINEAR ACTUATOR.//U.S Patent No. 6,983,710: HIGH SPEED BRAKING OF SUBMERGED PROPELLED SEA CRAFT.//U.S. Patent No. 6,991,468: FOLDED FOIL AND METAL FIBER BRAID ELECTRICAL CURRENT COLLECTOR BRUSH.

ADDRESSES: Requests for copies of the patents cited should be directed to: Naval Surface Warfare Center Carderock Division, Code 0117, 9500 MacArthur Blvd, West Bethesda, MD 20817-5700, and must include the patent number.

FOR FURTHER INFORMATION CONTACT: Dr. Joseph Teter Ph.D., Director, Technology Transfer Office, Naval Surface Warfare Center Carderock Division, Code 0022, 9500 MacArthur Blvd, West Bethesda, MD 20817-5700, telephone 301-227-4299.

(Authority: 35 U.S.C. 207, 37 CFR part 404.)

Dated: February 3, 2006.
Eric McDonald,
Lieutenant Commander, Judge Advocate General's Corps, U.S. Navy, Federal Register Liaison Officer.

[FR Doc. E6-2120 Filed 2-14-06; 8:45 am]

BILLING CODE 3810-FF-P